DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Big West Oil, LLC

[Waiver Petition Docket Number FRA-2007-0025]

The Big West Oil, LLC (FLYJ), a Class III railroad, seeks a waiver of compliance from the requirements of 49 CFR part 223.11 Requirements for existing locomotives for locomotive number 1. Specifically, FLYJ petitioned FRA for a waiver for a 600 horsepower diesel electric locomotive, model SW-600, built by the Electro Motive Division of General Motors in 1962. This locomotive is primarily used for industrial switching within an enclosed facility adjacent to the Big West Oil Refinery in Salt Lake City, Utah. The locomotive is stored during non-operational hours within a secure area of the refinery.

Locomotive number 1 is used on a limited basis for industrial switching over 3.5 miles of privately owned track. There are two (2) highway/rail crossings at grade through the industrial property with no overpasses or bridges. The railroad operates Monday to Friday, an average of 4 hours per day, during daylight hours, with a 10 mph speed restriction through the industrial complex. There have been no reports of glazing vandalism along this right-of-way since the operation of this locomotive began in 1999.

The petitioner believes that this locomotive can be safely operated throughout the industrial complex with the current non-compliant safety-type glazing. The cost to FLYJ for installation of all new window frames and compliant FRA Types I & II glazing is significant with only a marginal increase in safety due to the low speed.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2007-0025) and may be submitted by any of the following methods:

Web site: http://www.regulations.gov. Follow the online instructions for submitting comments.

Fax: 202-493-2251.

Mail: Docket Operations Facility, U.S. Department of Transportation, 1200 New Jersey Avenue, SE., W12-140, Washington, DC 20590.

Hand Delivery: 1200 New Jersey Avenue, SE., Room W12-140, Washington, DC 20590, between 9 a.m. and 5 p.m., Monday through Friday, except Federal Holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on February 4, 2008.
Grady C. Cothen, Jr.,
Deputy Associate Administrator for Safety Standards and Program Development.

[FR Doc. E8-2393 Filed 2-8-08; 8:45 am]

BILLING CODE 4910-06-P